SURFACE TRANSPORTATION BOARD

[Docket No. FD 36600]

North Shore Railroad Company—Operation and Trackage Rights Exemption—Lines of SEDA-COG Joint Rail Authority and Norfolk Southern Railway Company, Including Interchange Commitment

North Shore Railroad Company (North Shore), a Class III rail carrier, has filed a verified notice of exemption pursuant to 49 CFR 1150.41 to: (1) Operate approximately 7.7 miles of existing railroad track and right-of-way known as the Selinsgrove Industrial Track, extending from milepost 0.0 at Selinsgrove Junction, Pa., to milepost 7.7 in Kreamer, Pa., and an approximately 1.3-mile industrial spur known as the Power Plant Lead, both in Snyder County, Pa. (collectively, the Line), and (2) acquire incidental trackage rights over approximately 4.7 miles of track owned by Norfolk Southern Railway Company (NSR), on NSR's Buffalo Line, from milepost BR 258.6 at Sunbury, Pa., to milepost BR 263.3 at Selinsgrove Junction.

The Line is currently owned and operated by NSR and is being acquired by the SEDA-COG Joint Rail Authority (the Authority), a Pennsylvania municipal authority and noncarrier. The Authority has concurrently filed a verified notice of exemption to acquire the Line ¹ in SEDA-COG Joint Rail Authority—Acquisition Exemption with Interchange Commitment—Norfolk Southern Railway Company, Docket No. FD 33602. The Authority and NSR have also entered into a Freight Service Easement Agreement (FSEA), providing the Authority an easement and right to operate freight rail service on the Line. According to the verified notice, the FSEA expressly contemplates that the Authority will enter into an agreement with a third-party operating railroad to operate the Line for the Authority. North Shore will be operating over the Line pursuant to an operating agreement with the Authority.

¹ According to the verified notice, the Power Plant Lead is currently an industrial spur line, the Authority's acquisition of which does not require Board authorization. However, the verified notice indicates that the Power Plant Lead is part of the Line for which North Shore seeks common carrier operating authority, as it will become a line of railroad subject to the Board's authority upon the effective date of the exemption.

North Shore certifies that that the proposed transaction will not result in North Shore's becoming a Class I or Class II rail carrier and that the 60-day advance notice requirements of 49 CFR 1150.42 do not apply. North Shore certifies that the FSEA contains a provision that would limit future interchange with a third-party connecting carrier other than NSR at Northumberland. North Shore has provided additional information regarding the interchange commitment, as required by 49 CFR 1150.43(h).²

² A copy of the FSEA containing the interchange commitment was filed under seal with the verified notice. See 49 CFR 1150.43(h)(1).

The earliest this transaction may be consummated is April 23, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than April 15, 2022 (at least seven days before the exemption becomes effective).

All pleadings, referring to Docket No. FD 36600, should be filed with the Surface Transportation Board via e-filing on the Board's website. In addition, a copy of each pleading must be served on North Shore's representative, Richard A. Allen, KMA Zuckert, LLC, 888 Seventeenth Street NW, Suite 700, Washington, DC 20006.

According to North Shore, this action is categorically excluded from environmental review under 49 CFR 1105.6(c) and from historic preservation reporting requirements under 49 CFR 1105.8(b).

Board decisions and notices are available at www.stb.gov.

Decided: April 5, 2022.
By the Board, Scott M. Zimmerman, Acting Director, Office of Proceedings.
Kenyatta Clay,
Clearance Clerk.

[FR Doc. 2022-07562 Filed 4-7-22; 8:45 am]

BILLING CODE 4915-01-P